DEPARTMENT OF COMMERCE

National Oceanic and Atmospheric Administration

RIN 0648-XA130

Endangered and Threatened Species; Recovery Plan Module for Columbia River Estuary Salmon and Steelhead

AGENCY: National Marine Fisheries Service (NMFS), National Oceanic and Atmospheric Administration (NOAA), Commerce.

ACTION: Notice of availability; recovery plan module for Columbia River estuary salmon and steelhead.

SUMMARY: NMFS announces the adoption of the Columbia River Estuary Endangered Species Act (ESA) Recovery Plan Module for Salmon and Steelhead (Estuary Module). The Estuary Module addresses the estuary recovery needs of all ESA-listed salmon and steelhead in the Columbia River Basin. All Columbia Basin salmon and steelhead ESA recovery plans will incorporate the Estuary Module by reference.

ADDRESSES: For additional information about the Estuary Module, contact Patty Dornbusch, NMFS, 1201 NE Lloyd Boulevard, Suite 1100, Portland, OR 97232. Electronic copies of the Estuary Module and a response to public comments on the Proposed Estuary Module are available online at http://www.nwr.noaa.gov/Salmon-Recovery-Planning/ESA-Recovery-Plans/Estuary-Module.cfm. For a CD-ROM of these documents, call Joanna Donnor at (503) 736-4721 or e-mail a request to joanna.donnor@noaa.gov with the subject line “CD-ROM Request for Final Estuary Recovery Plan Module.”

FOR FURTHER INFORMATION CONTACT: Patty Dornbusch, (503) 230-5430.

SUPPLEMENTARY INFORMATION:

Background

The Endangered Species Act of 1973 (ESA), as amended (16 U.S.C. et seq.) requires that a recovery plan be developed and implemented for species listed as endangered or threatened under the statute, unless such a plan would not promote the recovery of the species. Recovery plans must contain (1) objective, measurable criteria which, when met, would result in a determination that the species is no longer threatened or endangered; (2) site-specific management actions necessary to achieve the plan's goals; and (3) estimates of the time required and costs to implement recovery actions. NMFS is the agency responsible for developing recovery plans for salmon and steelhead, and we will use the plans to guide efforts to restore endangered and threatened Pacific salmon and steelhead to the point that they are again self-sustaining in their ecosystems and no longer need the protections of the ESA.

In the Columbia River basin, the following salmon evolutionarily significant units (ESUs) and steelhead distinct population segments (DPSs) are listed as threatened or endangered under the ESA: Snake River Sockeye salmon, Snake River spring/summer Chinook salmon, Snake River fall Chinook salmon, Snake River steelhead, Upper Columbia River spring Chinook salmon, Upper Columbia River steelhead, Middle Columbia River steelhead, Lower Columbia River Chinook salmon, Lower Columbia River coho salmon, Columbia River chum salmon, Lower Columbia River steelhead, Upper Willamette River spring Chinook salmon, and Upper Willamette River steelhead. Recovery plans are either complete or in development for these 13 salmon ESUs and steelhead DPSs.

Because we believe that local support for recovery plans is essential, we have approached recovery planning collaboratively, with strong reliance on existing state, regional, and tribal planning processes. For instance, in the Columbia Basin, recovery plans have been or are being developed by regional recovery boards convened by Washington State, by the State of Oregon in conjunction with stakeholder teams, and by NMFS in Idaho with the participation of local agencies. We review locally developed recovery plans, ensure that they satisfy ESA requirements, and make them available for public review and comment before formally adopting them as ESA recovery plans.

Recovery plans must consider the factors affecting species survival throughout the entire life cycle. The salmonid life cycle includes spawning and rearing in the tributaries, migrating through the mainstem Columbia River and estuary to the ocean, and returning to the natal stream. In the estuary, juvenile and adult salmon and steelhead undergo physiological changes needed to make the transition to and from saltwater. They use the varying sub-habitats of the estuary—the shallows, side channels, deeper channels, and plume of freshwater extending offshore—at varying times of the year.

While local recovery planners appropriately focus on the tributary conditions within their jurisdictions and domains, NMFS recognized the need for consistent treatment of the factors in the estuary that affect all of the listed salmon and steelhead in the Columbia Basin. The Estuary Module addresses limiting factors, threats, and needed actions in the Columbia River estuary for the 13 ESUs and DPSs of salmon and steelhead listed in the basin. Each locally developed recovery plan will incorporate by reference the Estuary Module as its estuary component.

This approach will ensure consistent treatment across locally developed recovery plans of the effects of the Columbia River estuary as well as a system-wide approach to evaluating and implementing estuary recovery actions. The planning area of the Estuary Module overlaps to some extent with the planning areas for locally developed plans for lower Columbia River tributaries. This overlap occurs in the tidally influenced portions of the tributaries, and in such instances the local plans will reflect the Estuary Module but may specify actions at a higher level of detail.

The Estuary Module was developed for NMFS by the Lower Columbia River Estuary Partnership (Estuary Partnership), contractor, and PC Trask & Associates, Inc., sub-contractor. The Estuary Partnership was established in 1995 as part of the Environmental Protection Agency's National Estuary Program. The Estuary Partnership's major roles are to convene common interests, help integrate conservation efforts, increase public awareness and involvement, and promote information-based problem solving. The Estuary Partnership is one of the primary organizations focused on conserving and improving the environment of the Columbia River estuary. The Partnership's expertise in assessment, planning, and stakeholder connections made it uniquely suited to develop this Estuary Module. PC Trask & Associates, Inc., is an environmental planning and project management firm with a focus on projects related to the Columbia River estuary. The firm also works with Federal, state, and local project sponsors to identify and implement ecosystem-related restoration projects in the estuary.

NMFS made the draft Estuary Module available for public review as a Proposed Estuary Recovery Plan Module. A notice of availability soliciting public comments on the Proposed Estuary Module was published in the Federal Register on January 8, 2008 (73 FR 161). We conducted public meetings at the following locations, dates, and times:

• Astoria, OR, January 29, 2008, at the Columbia River Maritime Museum, 6:30-8:30 p.m.

• Vancouver, WA, January 31, 2008, at the Water Resources Education Center, 6:30-8:30 p.m.

We received nine comment letters by mail, fax, or e-mail on the proposed recovery plan module from a variety of sources, including local, state, and Federal Government entities, nonprofit organizations, and interested individuals. A summary of the comments, responses, and changes made in the Estuary Module is available online at http://www.nwr.noaa.gov/Salmon-Recovery-Planning/ESA-Recovery-Plans/Estuary-Module.cfm. The final Estuary Module is also available online at http://www nwr.noaa.gov/Salmon-Recovery-Planning/ESA-Recovery-Plans/Estuary-Module.cfm. This final version constitutes the Columbia River Estuary Endangered Species Act (ESA) Recovery Plan Module for Salmon and Steelhead.

We are committed to implementing the actions in the Estuary Module for which we have the authority, to working cooperatively on implementation of other actions, and to encouraging other Federal agencies to implement Estuary Module actions for which they have responsibility and authority. We will also encourage the states of Washington and Oregon to seek similar implementation commitments from state agencies and local governments.

We expect the Estuary Module to help us and other Federal agencies take a more consistent approach to future section 7 consultations and other ESA decisions. For example, the Estuary Module will provide greater biological context for the effects that a proposed action may have on a listed ESU or DPS. Science summarized in the Estuary Module will become a component of the “best available information” for section 7 consultations as well as for section 10 habitat conservation plans and other ESA decisions.

The Estuary Module

The purpose of the Estuary Module is to identify and prioritize management actions that, if implemented, would reduce the impacts of limiting factors, meaning the physical, biological, or chemical conditions that impede salmon and steelhead survival during their migration through and rearing in the estuary and plume ecosystems. The module first identifies and prioritizes limiting factors by summarizing the changes that have occurred in the estuary since European settlement and evaluating the potential of current physical, biological, or chemical conditions to affect salmon and steelhead. The module next describes the underlying causes of these limiting factors. These causes are referred to as threats and can be either human or environmental in origin. For example, the limiting factor of flow-related estuary habitat changes is caused by a combination of threats including water withdrawals, flow regulation, natural climate cycles, and human contributions to global climate change. The module prioritizes the threats based on the significance of the limiting factor to which they contribute and the relative contribution of each threat to one or more limiting factors. Finally, the module identifies management actions intended to reduce the threats and increase the survival of salmon and steelhead during estuarine rearing and migration. Costs are included for each of the actions.

The Estuary Module synthesizes diverse scientific sources and information provided by scientists who were consulted by the author. Three key documents informed the Estuary Module: Mainstem Lower Columbia River and Columbia River Estuary Subbasin Plan and Supplement (Northwest Power and Conservation Council, 2004); Salmon at River's End: The Role of the Estuary in Decline and Recovery of Columbia River Salmon (Bottom et al., 2005); and Role of the Estuary in the Recovery of Columbia River Basin Salmon and Steelhead (Fresh et al., 2005). Other sources, including staff from the NMFS Northwest Fisheries Science Center and Northwest Regional Office, Estuary Partnership, and the Washington Lower Columbia Fish Recovery Board, supplemented these key documents. Additionally, interactions with the Northwest Power and Conservation Council, the Mid-Columbia Sounding Board, the Upper Willamette Stakeholder Team, and the Oregon Lower Columbia River Stakeholder Team influenced the module.

Planning Area and ESUs and DPSs Addressed

For the purposes of the Estuary Module, the estuary includes the entire continuum where tidal forces and river flows interact, regardless of the extent of saltwater intrusion (Fresh et al., 2005; Northwest Power and Conservation Council, 2004). The upstream boundary of the planning area is Bonneville Dam, and the downstream boundary includes the Columbia River plume.

During their life cycles, all listed salmon and steelhead in the Columbia River basin rely for some period on the Columbia River estuary. The Estuary Module is therefore intended to address all eight listed ESUs and all five listed DPSs.

Recovery Goals, Objectives, and Criteria

Because the Estuary Module addresses only a portion of the species' life cycles and will be incorporated into locally developed recovery plans that NMFS will adopt as ESA recovery plans, it does not contain recovery goals and objectives or de-listing criteria. The domain-specific recovery plans into which this Estuary Module is incorporated will contain those elements.

Causes for Decline and Current Threats

The estuary and plume are considerably degraded from their historical condition. The Estuary Module identifies these changes, evaluates their potential effects on salmon and steelhead, and discusses their underlying causes (referred to as threats). The threats that have caused changes in the estuary can be broadly classified as habitat-related threats, threats related to the food web and species interactions, and other threats.

Habitat: The estuary is about 20 percent smaller than it was historically (Northwest Power and Conservation Council, 2004). This reduction is due mostly to diking and filling used to convert the floodplain to agricultural, industrial, commercial, and residential uses. Flows entering the estuary also have changed dramatically: spring freshets have decreased and other aspects of the historical hydrograph have been altered. These changes are the result of flow regulation by the hydropower system, water withdrawal for irrigation and water supplies, and climate fluctuations.

Flow alterations and diking and filling practices have affected salmon and steelhead in several ways. Access to and use of floodplain habitats by ocean-type ESUs (salmonids that typically rear for a shorter time in tributaries and a longer time in the estuary) have been severely compromised through alterations in the presence and availability of these important habitats. Shifts in timing, magnitude, and duration of flows have also changed erosion and accretion processes, resulting in changes to in-channel habitat availability and connectivity.

Elevated temperatures of water entering the estuary are also a threat to salmon and steelhead. Degradation of tributary riparian habitat by land-use practices, in addition to reservoir heating, has caused these increased temperatures. Toxic contaminants in the estuary and plume have also degraded water quality. Contaminants found in the estuary and plume include agricultural pesticides, fertilizers, and industrial chemicals. Contaminants can kill salmon and steelhead immediately, can alter their behavior in ways that increase their mortality (such as making them more susceptible to predation), and can accumulate over time and cause increased mortality (for example by suppressing the fishes' immune system).

Food Web and Species Interactions: Limiting factors related to the food web and species interactions result from many of the threats to salmon and steelhead in the estuary. Examples include relatively recent increases in Caspian tern and pinniped predation on salmonids, due at least in part to human alterations of the ecosystem, as well as the more complex and less understood shift from macrodetritus-based primary plant production to phytoplankton production. The introduction of exotic species is another ecosystem alteration whose impacts are not clearly understood.

Other Threats: The estuary also is influenced by thousands of over-water and instream structures, such as jetties, pilings, pile dikes, rafts, docks, breakwaters, bulkheads, revetments, groins, and ramps. These structures alter river circulation patterns, sediment deposition, and light penetration, and they form microhabitats that often benefit predators. In some cases, structures reduce juvenile access to low-velocity habitats. Ship wake stranding is an example of another threat to salmon and steelhead in the estuary whose full impact is not well understood.

Recovery Strategies and Actions

The Estuary Module identifies 23 management actions to improve the survival of salmon and steelhead migrating through and rearing in the estuary and plume environments. Table 1 identifies these management actions and shows their relationship to threats.

Table 1—Management Actions To Address Threats
| Threat | Management action
Flow-related threats | Climate cycles and global climate change ² | CRE¹-1: Protect intact riparian areas in the estuary and restore riparian areas that are degraded.² CRE-2: Operate the hydrosystem to reduce the effects of reservoir surface heating, or conduct mitigation measures.² CRE-3: Protect and/or enhance estuary instream flows influenced by Columbia River tributary/mainstem water withdrawals and other water management actions in tributaries.²
| Water withdrawal | CRE-3: Protect and/or enhance estuary instream flows influenced by Columbia River tributary/mainstem water withdrawals and other water management actions in tributaries.
| Flow regulation | CRE-4: Adjust the timing, magnitude, and frequency of hydrosystem flows (especially spring freshets) entering the estuary and plume to better reflect the natural hydrologic cycle, improve access to habitats, and provide better transport of coarse sediments and nutrients in the estuary and plume. CRE-3: Protect and/or enhance estuary instream flows influenced by Columbia River tributary/mainstem water withdrawals and other water management actions in tributaries.
Sediment-related threats | Entrapment of fine sediment in reservoirs | CRE-5: Study and mitigate the effects of entrapment of fine sediment in reservoirs, to improve nourishment of the estuary and plume.
| Impaired transport of coarse sediment | CRE-6: Reduce the export of sand and gravels via dredge operations by using dredged materials beneficially. CRE-8: Remove or modify pilings and pile dikes with low economic value when removal or modification would benefit juvenile salmonids and improve ecosystem health. CRE-4: Adjust the timing, magnitude, and frequency of hydrosystem flows (especially spring freshets) entering the estuary and plume to better reflect the natural hydrologic cycle, improve access to habitats, and provide better transport of coarse sediments and nutrients in the estuary and plume.
| Dredging | CRE-7: Reduce entrainment and habitat effects resulting from main- and side-channel dredge activities and ship ballast intake in the estuary.
Structural threats | Pilings and pile dike structures | CRE-8: Remove or modify pilings and pile dikes with low economic value when removal or modification would benefit juvenile salmonids and improve ecosystem health.
| Dikes and filling | CRE-9: Protect remaining high-quality off-channel habitat from degradation and restore degraded areas with high intrinsic potential for high-quality habitat. CRE-10: Breach, lower, or relocate dikes and levees to establish or improve access to off-channel habitats.
| Reservoir-related temperature changes | CRE-2: Operate the hydrosystem to reduce the effects of reservoir surface heating, or conduct mitigation measures.
| Over-water structures | CRE-11: Reduce the square footage of over-water structures in the estuary.
| Increased phytoplankton production | CRE-10: Breach, lower, or relocate dikes and levees to establish or improve access to off-channel habitats.
Food web-related threats | Altered predator/prey relationships | CRE-13: Manage pikeminnow and other piscivorous fish, including introduced species, to reduce predation on salmonids. CRE-14: Identify and implement actions to reduce salmonid predation by pinnipeds. CRE-15: Implement education and monitoring projects and enforce existing laws to reduce the introduction and spread of invasive plants. CRE-16: Implement projects to redistribute part of the Caspian tern colony currently nesting on East Sand Island. CRE-17: Implement projects to reduce double-crested cormorant habitats and encourage dispersal to other locations. CRE-18: Reduce the abundance of shad in the estuary. CRE-8: Remove or modify pilings and pile dikes with low economic value when removal or modification would benefit juvenile salmonids and improve ecosystem health.
| Ship ballast practices | CRE-19: Prevent new introductions of aquatic invertebrates and reduce the effects of existing infestations. CRE-7: Reduce entrainment and habitat effects resulting from main- and side-channel dredge activities and ship ballast intake in the estuary.
Water quality-related threats | Agricultural practices | CRE-20: Implement pesticide and fertilizer best management practices to reduce estuarine and upstream sources of nutrients and toxic contaminants entering the estuary.³ CRE-1: Protect intact riparian areas in the estuary and restore riparian areas that are degraded. CRE-9: Protect remaining high-quality off-channel habitat from degradation and restore degraded areas with high intrinsic potential for high-quality habitat.
| Urban and industrial practices | CRE-21: Identify and reduce terrestrially and marine-based industrial, commercial, and public sources of pollutants. CRE-22: Restore or mitigate contaminated sites. CRE-23: Implement stormwater best management practices in cities and towns.³ CRE-1: Protect intact riparian areas in the estuary and restore riparian areas that are degraded. CRE-9: Protect remaining high-quality off-channel habitat from degradation and restore degraded areas with high intrinsic potential for high-quality habitat.
Other threats | Riparian practices | CRE-1: Protect intact riparian areas in the estuary and restore riparian areas that are degraded.
| Ship wakes | CRE-12: Reduce the effects of vessel wake stranding in the estuary.
¹ CRE = Columbia River estuary.
² Study of the impacts of global climate change is an evolving field, and additional research is needed to understand the phenomenon's likely effects on estuarine habitats and processes with specificity. At this time, the Independent Scientific Advisory Board of the Northwest Power and Conservation Council expects that the regional effects of global climate change in the next century will include more precipitation falling as rain rather than snow, reduced snow pack, and late-summer/early-fall stream flows, and associated rises in stream temperature (Independent Scientific Advisory Board 2007). The climate-related management actions in Table 1 reflect these expected impacts. Although the management actions clearly would not change the threat of global climate change itself, they have the potential to lessen its impact on salmonids in the estuary. Even if climate cycles and global climate change have effects different from those assumed in this document, the management actions that Table 1 associates with climate would provide benefits to salmonids by addressing other threats, such as water withdrawal, urban and industrial practices, and reservoir heating. All three of the management actions associated with climate in Table 1 are associated with other threats listed in Table 1.
³ Unless otherwise noted, the term best management practices is used in the Estuary Module to indicate general methods or techniques found to be most effective in achieving an objective. NMFS envisions that in implementation, specific best management practices would be developed or recommended.
Note: Italics indicate an action's second occurrence in the table, in connection with a different threat.

Identifying management actions that could reduce threats to salmon and steelhead as they rear in or migrate through the estuary is an important step toward improving conditions for salmonids during a critical stage in their life cycles. However, actual implementation of management actions is constrained by a variety of factors, such as technical, economic, and private property considerations. In some cases, it will be impossible to realize an action's full potential because its implementation is constrained by past societal decisions that are functionally irreversible. An important assumption of the Estuary Module is that the implementation of each of the 23 management actions is constrained in some manner.

The Estuary Module makes another important assumption about implementation: although implementation of actions is constrained, even constrained implementation can make important contributions to the survival of salmonids in the estuary and plume.

Within the context of these two fundamental assumptions, the Estuary Module evaluates the costs and potential benefits of recovery actions.

Potential Survival Benefits

To help characterize potential survival improvements, the Estuary Module uses a planning exercise that involves distributing a plausible survival improvement target of 20 percent across the actions to hypothesize the portion of that total survival improvement target that might result from each action. The primary purpose of the survival improvement target is to help compare the relative potential benefits of different management actions. The survival improvement target does not account for variation at the ESU, population, and subpopulation scales, and is not intended for use in life cycle modeling, except as a starting point in the absence of more rigorous data.

Time and Cost Estimates

Each action in the Estuary Module is broken down into a number of specific projects or units, and per-unit costs for each project are identified. The costs reflect assumptions about the constraints to implementation and the degree to which it is possible to reduce those constraints.

Given those constraints, the Estuary Module estimates that the cost of implementing all 23 actions and associated research and monitoring over a 25-year time period is $592.15 million. Costs of tributary actions and the total estimated time and cost of recovery for each affected ESU or DPS will be provided in ESU- and DPS-level recovery plans.

Monitoring and Adaptive Management

Research, monitoring, and evaluation (RME) within an adaptive management framework is a critical element of recovery planning for ESA-listed species. Monitoring for the Estuary Module will build on ongoing efforts. In particular, the Federal Columbia River Estuary Research, Monitoring, and Evaluation Program (Johnson et al., 2008) is an appropriate monitoring plan on which to base RME for the Estuary Module, particularly because it links Estuary Module RME to RME for the 2008 Federal Columbia River Power System Biological Opinion and its 2010 Supplement (NMFS, 2008 and 2010). The Estuary Module also identifies other applicable monitoring plans and guidance documents as well as additional monitoring needs, particularly in the area of action effectiveness monitoring.

Conclusion

The Estuary Module contributes to all the Columbia Basin salmon and steelhead recovery plans by analyzing limiting factors and threats related to survival of listed salmon and steelhead in the Columbia River estuary, identifying site-specific management actions related to those limiting factors and threats, and estimating the cost and time to implement those actions. NMFS will incorporate the Estuary Module by reference into all Columbia Basin salmon and steelhead recovery plans. We conclude that the Estuary Module provides information that helps to meet the requirements for recovery plans under ESA section 4(f), and adopt it as a component of Columbia Basin ESA recovery plans.

References

A complete list of all references cited herein is available upon request (see FOR FURTHER INFORMATION CONTACT section).

Authority: 16 U.S.C. 1531 et seq.

Dated: February 9, 2011.
Therese Conant,
Acting Chief, Endangered Species Division, Office of Protected Resources, National Marine Fisheries Service.

[FR Doc. 2011-3243 Filed 2-11-11; 8:45 am]

BILLING CODE 3510-22-P